INTERNATIONAL TRADE COMMISSION

Notice of Appointment of Individuals To Serve as Members of the Performance Review Board

AGENCY: United States International Trade Commission.

ACTION: Appointment of Individuals to Serve as Members of Performance Review Board.

DATES: Applicable Date: August 23, 2019.

FOR FURTHER INFORMATION CONTACT: Eric Mozie, Director of Human Resources, or Ronald Johnson, U.S. International Trade Commission (202) 205-2651.

SUPPLEMENTARY INFORMATION: The Chairman of the U.S. International Trade Commission has appointed the following individuals to serve on the Commission's Performance Review Board (PRB):

Chair of the PRB: Commissioner Rhonda K. Schmidtlein

Vice-Chair of the PRB: Commissioner Randolph Stayin

Member—John Ascienzo

Member—Dominic Bianchi

Member—Nannette Christ

Member—Jonathan Coleman

Member—Catherine DeFilippo

Member—James Holbein

Member—Margaret Macdonald

Member—Stephen A. McLaughlin

Member—William Powers

Member—Keith Vaughn

This notice is published in the Federal Register pursuant to the requirement of 5 U.S.C. 4314(c)(4). Hearing impaired individuals are advised that information on this matter can be obtained by contacting our TDD terminal on (202) 205-1810.

By order of the Chairman.
Issued: August 23, 2019.
William Bishop,
Supervisory Hearings and Information Officer.

[FR Doc. 2019-18563 Filed 8-27-19; 8:45 am]

BILLING CODE 7020-02-P